DEPARTMENT OF THE TREASURY

Internal Revenue Service

Proposed Extension of Information Collection Request Submitted for Public Comment; Comment Request for Forms 4506-T, 4506T-EZ and Form 4506T-EZ(SP)

AGENCY: Internal Revenue Service (IRS), Treasury.

ACTION: Notice and request for comments.

SUMMARY: The Internal Revenue Service, as part of its continuing effort to reduce paperwork and respondent burden, invites the public and other Federal agencies to take this opportunity to comment on proposed and/or continuing information collections, as required by the Paperwork Reduction Act of 1995. Currently, the IRS is soliciting comments concerning Form 4506-T Request for Transcript of Tax Return, Form 4506T-EZ, Short Form Request for Individual Tax Return Transcript, and 4506T-EZ(SP), Formulario Abreviado para la Solicitud de un Trasunto de la Declaracion de Impuestos Personales.

DATES: Written comments should be received on or before August 15, 2022 to be assured of consideration.

ADDRESSES: Direct all written comments to Molly Stasko, Internal Revenue Service, Room 6526, 1111 Constitution Avenue NW, Washington, DC 20224, or by email to pra.comments@irs.gov. Include 1545-2154 or Form 4506-T Request for Transcript of Tax Return, Form 4506T-EZ, Short Form Request for Individual Tax Return Transcript, and 4506T-EZ(SP), Formulario Abreviado para la Solicitud de un Trasunto de la Declaracion de Impuestos Personales in the subject line of the message.

FOR FURTHER INFORMATION CONTACT: Requests for additional information or copies of this collection should be directed to LaNita Van Dyke, at (202) 317-6009, at Internal Revenue Service, Room 6526, 1111 Constitution Avenue NW, Washington, DC 20224, or through the internet at Lanita.VanDyke@irs.gov.

SUPPLEMENTARY INFORMATION:

Titles: Request for Transcript of Tax Return and Disclosure of returns and return information.

OMB Number: 1545-2154.

Regulation Project Numbers: 4506-T, 4506T-EZ and 4506T-EZ(SP).

Abstract: Form 4506-T is used to request all products except copies of returns. The information provided will be used to search the taxpayers account and provide the requested information and to ensure that the requestor is the taxpayer, or someone authorized by the taxpayer to obtain the documents requested. Individuals can use Form 4506T-EZ to request a tax return transcript that includes most lines of the original tax return. The tax return transcript will not show payments, penalty assessments, or adjustments made to the originally filed return. Form 4506T-EZ (SP) is the Spanish translated version of the Form 4506T-EZ. It is also used to request a tax return transcript that includes most lines of the original tax return.

Current Actions: There are changes being made to the form at this time.

The following changes are being implemented:

Form 4506-T:

Example for tax year/period updated.

Removal of Line 5 (Customer File Number)

Form 4506T-EZ:

Removal of Line 5 (Customer File Number

Additionally, IRS is making an administrative change to move the Form 4506-T from being approved under OMB control 1545-1872 to 1545-2154.

Type of Review: Revision of a currently approved collection.

Affected Public: Individuals or Households, Farms, and Businesses and other for-profit organizations.

Estimated Number of Respondents: 2,812,960.

Estimated Time per Respondent: 47 mins.

Estimated Total Annual Burden Hours: 1,322,091.

The following paragraph applies to all the collections of information covered by this notice:

An agency may not conduct or sponsor, and a person is not required to respond to, a collection of information unless the collection of information displays a valid OMB control number. Books or records relating to a collection of information must be retained if their contents may become material in the administration of any internal revenue law. Generally, tax returns and tax return information are confidential, as required by 26 U.S.C. 6103.

Request for Comments: Comments submitted in response to this notice will be summarized and/or included in the request for OMB approval. All comments will become a matter of public record. Comments are invited on: (a) Whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: June 9, 2022.
Andres Garcia Leon,
Supervisory Tax Analyst.

[FR Doc. 2022-12963 Filed 6-15-22; 8:45 am]

BILLING CODE 4830-01-P